DEPARTMENT OF TRANSPORTATION

Federal Aviation Administration

Notice of Release From Federal Surplus Property and Grant Assurance Obligations at Oroville Municipal Airport (OVE), Oroville, California

AGENCY: Federal Aviation Administration, DOT.

ACTION: Notice of request to release airport land.

SUMMARY: The Federal Aviation Administration (FAA) proposes to rule and invites public comment on the application for a release of approximately 6.50 acres of airport property at the Oroville Municipal Airport (OVE), Oroville, California from all conditions contained in the Surplus Property Deed and Grant Assurances because the parcel of land is not needed for airport purposes. The land requested to be released is located outside of the airport fence along the southern boundary of the airport. The release will allow the City of Oroville (City) to sell the property at its fair market value, thereby benefiting the Airport and serving the interest of civil aviation. The City is also requesting a land-use change for approximately 13.62 acres of land adjacent to the 6.50 acres so it may be leased at its fair market value for non-aeronautical purposes to earn revenue for the airport. The proposed use will be compatible with the airport and will not interfere with the airport or its operation.

DATES: Comments must be received on or before May 20, 2013.

FOR FURTHER INFORMATION CONTACT: Comments on the request may be mailed or delivered to the FAA at the following address: Robert Lee, Airports Compliance Specialist, Federal Aviation Administration, San Francisco Airports District Office, Federal Register Comment, 1000 Marina Boulevard, Suite 220, Brisbane, CA 94005. In addition, one copy of the comment submitted to the FAA must be mailed or delivered to Mr. Art da Rosa, Director of Public Works, 1735 Montgomery Street, Oroville, CA 95965-4897.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The City of Oroville, California requested a release from Federal surplus property and grant assurance obligations for approximately 6.50 acres of airport land to allow for its sale and a land-use change for approximately 13.62 acres of airport land for long term leasing for non-aeronautical revenue generating purposes. The property was originally acquired pursuant to the Surplus Property Act of 1944 and was deeded to the City of Oroville on May 9, 1947. The parcels of land are located south of the airfield, outside of the airport fence line; and along the southern perimeter of the Airport near Larkin Road.

The City of Oroville will sell the 6.50 acres of property at fair market value and lease 13.62 acres of undeveloped airport land for fair market rental value for non-aeronautical revenue producing purposes.

The sales proceeds and rental income will be devoted to airport operations and capital projects. The reuse of the property will not interfere with the airport or its operation; thereby serve the interests of civil aviation.

Issued in Brisbane, California, on April 11, 2013.
Robin K. Hunt,
Manager, San Francisco Airports District Office, Western-Pacific Region.

[FR Doc. 2013-09141 Filed 4-17-13; 8:45 am]

BILLING CODE 4910-13-P